DEPARTMENT OF ENERGY

Federal Energy Regulatory Commission

[Docket No. CP02-1-003]

Southern Natural Gas Company; Notice of Amendment

November 22, 2002.

Take notice that on November 18, 2002, Southern Natural Gas Company (Southern), Post Office Box 2563, Birmingham, Alabama 35202-2563, filed in the above referenced docket, an application pursuant to Section 7(c) of the Natural Gas Act (NGA) and part 157 of the Commission's Rules and Regulations, to amend its Order Issuing Certificate and Approving Abandonment (Certificate Order) issued in this proceeding on September 20, 2002 (Southern Natural Gas Company, 100 FERC § 61,281 (2002)). Southern seeks approval of a change in the construction schedule of certain of the expansion facilities to accommodate the restructuring of the transportation services of one of the shippers participating in the expansion project and of a change in ownership of certain measurement facilities authorized by the Certificate Order. This application is on file with the Commission and open to public inspection. This filing is available for review at the Commission in the Public Reference Room or may be viewed on the Commission's Web site at http://www.ferc.gov using the “FERRIS” link. Enter the docket number excluding the last three digits in the docket number field to access the document. For assistance, please contact FERC Online Support at fercolinesupport@ferc.gov or call toll free (866) 208-3676 or for TTY, (202) 502-8659.

Southern states that one of the shippers participating in the South System Expansion II Project, Southern Company Services, Inc. (SCS), has advised Southern that it will not need to have its Transportation Demand available until November 1, 2003, and has requested to amend its Firm Transportation Service Agreement to revise the initial target date for service to commence thereunder. Accordingly, Southern proposes to shift the construction of certain of the Phase 1 facilities from the 2002-2003 winter spring construction season to the 2003 summer construction season. In addition, Southern and SCG Pipeline, Inc. (SCG) have agreed to the terms and conditions under which they will share ownership of the proposed Port Wentworth Meter Station. Therefore, Southern is requesting an amendment to the Certificate Order to reflect that it will have a thirty-eight and nine-tenths percent (38.9%) ownership interest in that facility.

Southern states further that the proposed changes will not materially modify the nature, scope, or impact of the project. Southern assures that the amount of capacity to be added to Southern's pipeline system and the shippers subscribing to that capacity remain the same. Southern also states that the environmental impact of the project will remain essentially the same, and that due to summer construction rather than the winter-spring construction, may reduce the effects of construction on the environment and should facilitate the construction process. Additionally, Southern states that it does not anticipate that the change in the construction schedule will result in a change in the total cost of the project, and consequently the project will still provide a substantial financial benefit to its system.

Any questions regarding this application should be directed to R. David Hendrickson, Associate General Counsel, at (205) 325-7114, Southern Natural Gas Company, Post Office Box 2563, Birmingham, Alabama 35202-2563.

There are two ways to become involved in the Commission's review of this project. First, any person wishing to obtain legal status by becoming a party to the proceedings for this project should, on or before December 13, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project.

This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

The Commission strongly encourages electronic filings of comments, protests, and interventions via the Internet in lieu of paper. See 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-30277 Filed 11-27-02; 8:45 am]

BILLING CODE 6717-01-P